DEPARTMENT OF DEFENSE

Department of the Army, Corps of Engineers

Exchange of Government Property at Soldier Systems Center (SSC), Natick, MA, to a Development Company (To Be Selected) for Future Development

AGENCY: U.S. Army Corps of Engineers, DOD.

ACTION: Notice.

SUMMARY: In accordance with 10 United States Code 2869, the Department of the Army intends to enter into an Exchange Agreement with a Development Company (to be selected) for the exchange of three (3) separate parcels (totaling 94.79+/−acres) of Government owned land at Soldier Systems Center, Natick, Massachusetts, in exchange for the construction and renovation to several buildings at Soldier Systems Center. The purpose of this notice is to effect the exchange pursuant to provisions of 10 U.S.C. 2869.

This is a partial transfer of the entire acreage located at the facility. Additional information is on file with the U.S. Army Engineer District, Corps of Engineers, Baltimore, Maryland.

FOR FURTHER INFORMATION CONTACT: Mr. Bob Penn, 410-962-3000.

ADDRESSES: Documents are on file at U.S. Army Engineer District, Baltimore, Corps of Engineers, 10 South Howard Street, Baltimore, Maryland 21201-1715.

SUPPLEMENTARY INFORMATION: None.

Dated: September 17, 2008.
Bob Penn,
Assistant Chief, Real Estate Division, Baltimore District, U.S. Army Corps of Engineers.

[FR Doc. E8-22759 Filed 9-26-08; 8:45 am]

BILLING CODE 3710-41-P